DEPARTMENT OF TRANSPORTATION

Federal Aviation Administration

14 CFR Part 39

[Docket No. FAA-2016-0451; Product Identifier 2013-NM-253-AD; Amendment 39-19026; AD 2017-18-17]

RIN 2120-AA64

Airworthiness Directives; Airbus Airplanes

AGENCY: Federal Aviation Administration (FAA), Department of Transportation (DOT).

ACTION: Final rule.

SUMMARY: We are superseding Airworthiness Directive (AD) 2004-23-20, which applied to certain Airbus Model A300, A300 B4-600, and A300 B4-600R series airplanes; and Model A300 F4-605R and A300 C4-605R Variant F airplanes. AD 2004-23-20 required, for certain airplanes, repetitive inspections for cracking around certain attachment holes, installation of new fasteners for certain airplanes, and follow-on corrective actions if necessary. AD 2004-23-20 also required modifying certain fuselage frames, which terminated certain repetitive inspections. This new AD reduces certain compliance times, expands the applicability, and requires an additional repair on certain modified airplanes. This AD was prompted by a report indicating that the material used to manufacture the upper frame feet was changed and negatively affected the fatigue life of the frame feet. We are issuing this AD to address the unsafe condition on these products.

DATES: This AD is effective October 19, 2017.

The Director of the Federal Register approved the incorporation by reference of certain publications listed in this AD as of October 19, 2017.

ADDRESSES: For service information identified in this final rule, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Standards Branch, 1601 Lind Avenue SW., Renton, WA. For information on the availability of this material at the FAA, call 425-227-1221. It is also available on the Internet at http://www.regulations.gov by searching for and locating Docket No. FAA-2016-0451.

Examining the AD Docket

You may examine the AD docket on the Internet at http://www.regulations.gov by searching for and locating Docket No. FAA-2016-0451; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Dan Rodina, Aerospace Engineer, International Section, Transport Standards Branch, 1601 Lind Avenue SW., Renton, WA 98057-3356; telephone 425-227-2125; fax 425-227-1149.

SUPPLEMENTARY INFORMATION:

Discussion

We issued a supplemental notice of proposed rulemaking (SNPRM) to amend 14 CFR part 39 to supersede AD 2004-23-20, Amendment 39-13875 (69 FR 68779, November 26, 2004) (“AD 2004-23-20”). AD 2004-23-20 applied to certain Airbus Model A300 B2, A300 B4, A300 B4-600, and A300 B4-600R series airplanes; and Model A300 F4-605R and A300 C4-605R Variant F airplanes. The SNPRM published in the Federal Register on June 15, 2017 (82 FR 27444) (“the SNPRM”). We preceded the SNPRM with a notice of proposed rulemaking (NPRM) that published in the Federal Register on February 1, 2016 (81 FR 5056) (“the NPRM”). The NPRM was prompted by a report indicating that the material used to manufacture the upper frame feet was changed and negatively affected the fatigue life of the frame feet. The NPRM proposed to reduce the compliance times for the initial inspection and the inspection intervals. The NPRM also proposed to expand the applicability and require an additional repair on certain airplanes that have been modified. The SNPRM proposed to reduce the compliance times, require an additional modification, and omit the requirement for the repetitive inspections. We are issuing this AD to prevent cracking of the center section of the fuselage, which could result in a ruptured frame foot and reduced structural integrity of the airplane.

The European Aviation Safety Agency (EASA), which is the Technical Agent for the Member States of the European Union, has issued EASA AD 2016-0249, dated December 14, 2016; corrected January 10, 2017 (referred to after this as the Mandatory Continuing Airworthiness Information, or “the MCAI”); to correct an unsafe condition for all Airbus Model A300 B4-603, A300 B4-620, A300 B4-622, A300 B4-605R, A300 B4-622R, A300 F4-605R, A300 F4-622R, and A300 C4-605R Variant F airplanes. The MCAI states:

During an inspection in accordance with Airworthiness Limitation Item (ALI) 53-15-54 on an A300-600 aeroplane, Frames (FR) 43, FR44, FR45 and FR46 were found cracked between stringer (STGR) 24 and STGR30 on the aeroplane right hand side. FR45 was also found cracked on the aeroplane left hand side.

This condition, if not detected and corrected, could reduce the structural integrity of the fuselage.

To address this potential unsafe condition and improve the fatigue life of the upper frame feet fittings, Airbus issued Service Bulletin (SB) A300-53-6125 to provide instructions for expansion of the most sensitive fastener holes between FR41 and FR46. DGAC [Direction Générale de l'Aviation Civile] France issued AD F-2004-002 (EASA approval 2003-2108) [which corresponds to FAA AD 2004-23-20] to require the structural modification defined in SB A300-53-6125 Revision 03 (Airbus modification 12168).

[French] AD F-2004-002 was subsequently superseded by EASA AD 2013-0295 to amend the inspection programme in this area as provided in SB A300-53-6122 (which is now obsolete and replaced by ALI task 531558, published in the [Airworthiness Limitation Section] ALS Part 2 Revision 01 dated 07 August 2015).

Since EASA AD 2013-0295 was issued, a new investigation was conducted in the frame of the Widespread Fatigue Damage study. Airbus revised the thresholds for the accomplishment of the instructions defined in SB A300-53-6125 and issued SB A300-53-6178 to provide modification instructions to improve the fatigue life of upper frame feet fittings on aeroplane[s] on which Airbus modification (mod) 12168 or Airbus SB A300-53-6125 was embodied.

For the reason described above, this [EASA] AD retains some requirements of EASA AD 2013-0295, which is superseded, and requires modification of the upper frame feet fittings from FR41 to FR46 [repetitive inspections are not retained].

This [EASA] AD is republished to correct a typographical error in the compliance time * * *.

You may examine the MCAI in the AD docket on the Internet at http://www.regulations.gov by searching for and locating Docket No. FAA-2016-0451.

Comments

We gave the public the opportunity to participate in developing this AD. We received no comments on the SNPRM or on the determination of the cost to the public.

Conclusion

We reviewed the available data and determined that air safety and the public interest require adopting this AD as proposed except for minor editorial changes. We have determined that these minor changes:

• Are consistent with the intent that was proposed in the SNPRM for correcting the unsafe condition; and

• Do not add any additional burden upon the public than was already proposed in the SNPRM.

Related Service Information Under 1 CFR Part 51

Airbus has issued Service Bulletin A300-53-6125, Revision 04, dated March 17, 2015; and Service Bulletin A300-53-6178, dated March 17, 2015. The service information describes procedures for the modification of certain upper frame feet fittings. These documents are distinct since they apply to airplanes in different configurations. This service information is reasonably available because the interested parties have access to it through their normal course of business or by the means identified in the ADDRESSES section.

Costs of Compliance

We estimate that this AD affects 65 airplanes of U.S. registry.

We estimate the following costs to comply with this AD:

The actions that were required by AD 2004-23-20 and retained in this AD take about 90 work-hours per product, at an average labor rate of $85 per work-hour. Required parts cost about $4,000 per product. Based on these figures, the estimated cost of the actions that were required by AD 2004-23-20 is $11,650 per product.

We also estimate that it will take up to 109 work-hours per product to comply with the new basic requirements of this AD. The average labor rate is $85 per work-hour. Required parts will cost up to $6,070 per product. Based on these figures, we estimate the cost of this AD on U.S. operators to be up to $996,775, or up to $15,335 per product.

We have received no definitive data that will enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2004-23-20, Amendment 39-13875 (69 FR 68779, November 26, 2004), and adding the following new AD:

2017-18-17 Airbus: Amendment 39-19026; Docket No. FAA-2016-0451; Product Identifier 2013-NM-253-AD.

(a) Effective Date

This AD is effective October 19, 2017.

(b) Affected ADs

This AD replaces AD 2004-23-20, Amendment 39-13875 (69 FR 68779, November 26, 2004) (“AD 2004-23-20”).

(c) Applicability

This AD applies to Airbus Model A300 B4-603, A300 B4-620, A300 B4-622, A300 B4-605R, A300 B4-622R, A300 F4-605R, A300 F4-622R, and A300 C4-605R Variant F airplanes; certificated in any category; all manufacturer serial numbers.

(d) Subject

Air Transport Association (ATA) of America Code 53, Fuselage.

(e) Reason

This AD was prompted by a report indicating that the material used to manufacture the upper frame feet was changed and negatively affected the fatigue life of the frame feet. We are issuing this AD to prevent cracking of the center section of the fuselage, which could result in a ruptured frame foot and reduced structural integrity of the airplane.

(f) Compliance

Comply with this AD within the compliance times specified, unless already done.

(g) Modification of the Upper Frame Feet Fittings

(1) Except for airplanes identified in table 2 to paragraphs (g)(1) and (g)(2) of this AD: At the times specified in table 1 to paragraph (g)(1) of this AD, depending on the average flight time (AFT), as defined in paragraph (i) of this AD, modify the upper frame feet fittings, including doing all applicable related investigative and corrective actions, in accordance with the Accomplishment Instructions of Airbus Service Bulletin A300-53-6125, Revision 04, dated March 17, 2015 (“SB A300-53-6125, Revision 04”). Do all applicable related investigative and corrective actions before further flight. Where Airbus SB A300-53-6125, Revision 04, specifies to contact Airbus for appropriate action, and specifies that action as “RC” (Required for Compliance): Before further flight, accomplish corrective actions in accordance with the procedures specified in paragraph (l)(2) of this AD.

Table 1 to Paragraph (g)(1) of This AD—Modification SB A300-53-6125, Revision 04
Airplane usage | Initial compliance time (flight cycles or flight hours, whichever occurs first since first flight)
AFT greater than 1.5 | Within 10,200 flight cycles or 22,100 flight hours.
AFT equal to or less than 1.5 | Within 11,000 flight cycles or 16,600 flight hours.

Table 2 to Paragraphs (g)(1) and (g)(2) of This AD—Modification SB A300-53-6178
Airplane configuration | Initial compliance time
Post-modification 12168 | Within 27,100 flight cycles or 47,300 flight hours since the airplane's first flight, whichever occurs first.
Post-SB A300-53-6125 | Within 27,100 flight cycles or 47,300 flight hours after embodiment of SB A300-53-6125, whichever occurs first.

(2) For airplanes identified in table 2 to paragraphs (g)(1) and (g)(2) of this AD: At the applicable compliance time specified in table 2 to paragraphs (g)(1) and (g)(2) of this AD, modify the upper frame feet fittings, in accordance with the Accomplishment Instructions of Airbus Service Bulletin A300-53-6178, dated March 17, 2015. Where Airbus Service Bulletin A300-53-6178, dated March 17, 2015, specifies to contact Airbus for appropriate action, and specifies that action as “RC”: Before further flight, accomplish corrective actions in accordance with the procedures specified in paragraph (l)(2) of this AD.

(h) Additional Post-Modification Actions

Prior to exceeding 24,100 total flight cycles or 42,000 total flight hours, whichever occurs first after doing the modification required by paragraph (g)(2) of this AD: Contact the Manager, International Section, Transport Standards Branch, FAA; or the European Aviation Safety Agency (EASA); or Airbus's EASA Design Organization Approval (DOA); for instructions to do additional actions, and do those actions at the compliance times stated therein.

(i) Definition of AFT

For the purpose of this AD, to establish the applicable AFT for the actions required by paragraph (g)(1) of this AD, divide the total accumulated flight hours counted from take-off to touch-down by the total accumulated flight cycles as of the effective date of this AD.

(j) Credit for Previous Actions

This paragraph provides credit for the modification required by paragraph (g)(1) of this AD, if the modification was performed before the effective date of this AD using the service information specified in paragraph (j)(1), (j)(2), (j)(3), or (j)(4) of this AD.

(1) Airbus Service Bulletin A300-53-6125, dated November 8, 2000, which is not incorporated by reference in this AD.

(2) Airbus Service Bulletin A300-53-6125, Revision 01, dated June 13, 2003, which was incorporated by reference in AD 2004-23-20.

(3) Airbus Service Bulletin A300-53-6125, Revision 02, dated February 25, 2005, which is not incorporated by reference in this AD.

(4) Airbus Service Bulletin A300-53-6125, Revision 03, dated September 13, 2011, which is not incorporated by reference in this AD.

(k) Exempt Airplanes

For airplanes on which Airbus Modification 12168 has been embodied in production: The modification required by paragraph (g)(1) of this AD is not required by this AD.

(l) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or EASA; or Airbus's EASA DOA. If approved by the DOA, the approval must include the DOA-authorized signature.

(3) Required for Compliance (RC): Except as required by paragraphs (g)(1) and (g)(2) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(m) Related Information

(1) Refer to Mandatory Continuing Airworthiness Information (MCAI) EASA Airworthiness Directive 2016-0249, dated December 14, 2016; corrected January 10, 2017; for related information. This MCAI may be found in the AD docket on the Internet at http://www.regulations.gov by searching for and locating Docket No. FAA-2016-0451.

(2) For more information about this AD, contact Dan Rodina, Aerospace Engineer, International Section, Transport Standards Branch, 1601 Lind Avenue SW., Renton, WA 98057-3356; telephone 425-227-2125; fax 425- 227-1149.

(3) Service information identified in this AD that is not incorporated by reference is available at the addresses specified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A300-53-6125, Revision 04, dated March 17, 2015.

(ii) Airbus Service Bulletin A300-53-6178, dated March 17, 2015.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(4) You may view this service information at the FAA, Transport Standards Branch, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 29, 2017.
Jeffrey E. Duven,
Director, System Oversight Division, Aircraft Certification Service.

[FR Doc. 2017-19303 Filed 9-13-17; 8:45 am]

BILLING CODE 4910-13-P